DEPARTMENT OF AGRICULTURE

Grain Inspection, Packers and Stockyards Administration

United States Standards for Lentils

Correction

In notice document 2017-14803, appearing on pages 31550-31551 in the Issue of Friday, July 7, 2017, make the following correction:

On page 31551, in the table titled “607 GRADES AND GRADE REQUIREMENTS FOR DOCKAGE-FREE LENTILS”, in the tenth row, in the fourth column, the entry “<4.0” should read “>4.0”.

[FR Doc. C1-2017-14308 Filed 7-14-17; 8:45 am]

BILLING CODE 1301-00-D